ENVIRONMENTAL PROTECTION AGENCY

40 CFR Part 52

[EPA-R04-OAR-2009-0786-201143; FRL-9443-8]

Approval and Promulgation of Air Quality Implementation Plans; Tennessee; Regional Haze State Implementation Plan; Limited Reopening of the Comment Period

AGENCY: Environmental Protection Agency (EPA).

ACTION: Proposed rule; limited reopening of the comment period.

SUMMARY: EPA is announcing a limited reopening of the public comment period for the proposed rule entitled “Approval and Promulgation of Air Quality Implementation Plans; State of Tennessee; Regional Haze State Implementation Plan.” The proposed rule was initially published in the Federal Register on June 9, 2011. Written comments on the proposed rule were to be submitted to EPA on or before July 11, 2011 (30-day comment period). On June 29, 2011, and July 1, 2011, two Commenters requested that EPA extend the comment period for the June 9, 2011, Tennessee Regional Haze proposed rulemaking for 30 to 60 days in order to review the Cross-State Air Pollution Rule (CSAPR), which replaced the Clean Air Interstate Rule on July 6, 2011. The Commenters requested the extension in order to determine any potential impacts of the CSAPR on the June 9, 2011, proposed rule. EPA is now reopening the public comment period for 15 days from the date of publication of today's action for the limited purpose of public review and comment on the potential impacts of the final CSAPR on EPA's proposed rulemaking to approve Tennessee's Regional Haze State Implementation Plan (SIP).

DATES: The comment period for the proposed rule published on June 9, 2011 (76 FR 33662), is reopened. Comments must be received on or before August 10, 2011.

ADDRESSES: Submit your comments, identified by Docket ID No. EPA-R04-OAR-2009-0786, by one of the following methods:

1. http://www.regulations.gov: Follow the on-line instructions for submitting comments.

2. E-mail: scofield.steve@epa.gov.

3. Fax: 404-562-9019.

4. Mail: “EPA-R04-OAR-2009-0786,” Regulatory Development Section, Air Planning Branch, Air, Pesticides and Toxics Management Division, U.S. Environmental Protection Agency, Region 4, 61 Forsyth Street, SW., Atlanta, Georgia 30303-8960.

5. Hand Delivery or Courier: Steven Scofield, Acting Chief, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Instructions: Direct your comments to Docket ID No. “EPA-R04-OAR-2009-0786.” EPA's policy is that all comments received will be included in the public docket without change and may be made available online at http://www.regulations.gov, including any personal information provided, unless the comment includes information claimed to be Confidential Business Information (CBI) or other information whose disclosure is restricted by statute. Do not submit through http://www.regulations.gov or e-mail, information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: EPA has established a docket for this action under Docket Identification No. EPA-R04-OAR-2009-0786. All documents in the docket are listed on the http://www.regulations.gov index. Although listed in the index, some information is not publicly available, i.e., CBI or other information whose disclosure is restricted by statute. Certain other material, such as copyrighted material, is not placed on the Internet and will be publicly available only in hard copy form. Publicly available docket materials are available either electronically through http://www.regulations.gov or in hard copy at the Regulatory Development Section, Air Planning Branch, Air, Pesticides and Toxics Management Division, U.S. Environmental Protection Agency, Region 4, 61 Forsyth Street, SW., Atlanta, Georgia 30303-8960. EPA requests that, if at all possible, you contact the person listed in the FOR FURTHER INFORMATION CONTACT section to schedule your inspection. The Regional Office's official hours of business are Monday through Friday, 8:30 to 4:30, excluding Federal holidays.

FOR FURTHER INFORMATION CONTACT: Sara Waterson or Michele Notarianni, Regulatory Development Section, Air Planning Branch, Air, Pesticides and Toxics Management Division, U.S. Environmental Protection Agency, Region 4, 61 Forsyth Street, SW., Atlanta, Georgia 30303-8960. Sara Waterson can be reached at telephone number (404) 562-9061 and by electronic mail at waterson.sara@epa.gov. Michele Notarianni can be reached at telephone number (404) 562-9031 and by electronic mail at notarianni.michele@epa.gov.

SUPPLEMENTARY INFORMATION: On May 31, 2011, the EPA Region 4 Acting Regional Administrator signed a proposed rulemaking to approve, on a limited basis, the State of Tennessee's Regional Haze State Implementation Plan. This action was published in the Federal Register on June 9, 2011, (76 FR 33662) and provided a 30-day comment period. All written comments were due to EPA Region 4, as instructed in the proposed rule, on or before July 11, 2011. During the comment period, EPA received comments from two separate Commenters requesting that EPA extend the comment period suggesting a range of 30-60 days. The purpose of the Commenters' requests was to allow time to review the final CSAPR ¹ and assess the correlation between the CSAPR and the Regional Haze requirements and, specifically, any potential impacts on the Tennessee Regional Haze SIP rulemaking. EPA has considered these requests and has decided to reopen the comment period for an additional 15 days from the date of publication of today's rulemaking.

¹ The final Cross-State Air Pollution Rule was signed by the EPA Administrator on July 6, 2011, and made available on the Internet at: http://www.epa.gov/crossstaterule/pdfs/TR_070611_WEB.pdf. The signed version is not the official version of this rule. For the purposes of compliance, the July 6, 2011, signed version will be replaced with a forthcoming Federal Register publication.

This reopening is for the limited purpose of public review and comment on the potential impacts of the final CSAPR on EPA's proposed rulemaking to approve Tennessee's Regional Haze SIP. EPA does not anticipate any impacts from the CSAPR on the proposed rulemaking on the Tennessee Regional Haze SIP. As noted in the CSAPR, EPA has not conducted any technical analysis to determine whether compliance with the CSAPR would satisfy Regional Haze Best Available Retrofit Technology (BART)-related requirements for electric generating units (EGUs). For that reason, EPA has neither made any determinations nor established any presumptions that compliance with the CSAPR satisfies BART-related requirements for EGUs. EPA intends to undertake a separate analysis to determine if compliance with the CSAPR would provide sufficient reductions to satisfy BART requirements for EGUs in accordance with Regional Haze Rule requirements for alternative BART compliance options as soon as practicable following official promulgation of the CSAPR.

Dated: July 15, 2011.
Gwendolyn Keyes Fleming,
Regional Administrator, Region 4.

[FR Doc. 2011-18833 Filed 7-25-11; 8:45 am]

BILLING CODE 6560-50-P